EXPORT-IMPORT BANK OF THE UNITED STATES

[Public Notice 2012-0345]

Application for Final Commitment for a Long-Term Loan or Financial Guarantee in Excess of $100 Million; 25 Day Comment Period

AGENCY: Export-Import Bank of the U.S.

ACTION: Notice.

SUMMARY: This Notice is to inform the public, in accordance with Section 3(c)(10) of the Charter of the Export-Import Bank of the United States (“Ex-Im Bank”), that Ex-Im Bank has received an application for final commitment for a long-term loan or financial guarantee in excess of $100 million (as calculated in accordance with Section 3(c)(10) of the Charter). Comments received within the comment period specified below will be presented to the Ex-Im Bank Board of Directors prior to final action on this Transaction.

DATES: Comments must be received on or before September 4, 2012 to be assured of consideration before final consideration of the transaction by the Board of Directors of Ex-Im Bank.

ADDRESSES: Comments may be submitted through WWW.REGULATIONS.GOV.

SUPPLEMENTARY INFORMATION: Reference: AP084728XX.

Purpose and Use:

Brief description of the purpose of the transaction:

To support the export of US manufactured nuclear reactor components and US supplied engineering services to the United Arab Emirates.

Brief non-proprietary description of the anticipated use of the items being exported:

To generate electrical power in Abu Dhabi, United Arab Emirates, for the national grid.

To the extent that Ex-Im Bank is reasonably aware, the items being exported are not expected to produce exports or provide services in competition with the exportation of goods or provision of services by a United States industry.

Parties:

Principal Supplier: Westinghouse Electric Company LLC.

Obligor: Barakah One Project Co.

Guarantors: Emirates Nuclear Energy Corporation (backed by the Government of Abu Dhabi, acting through the Abu Dhabi Department of Finance) and Korea Electric Power Corporation.

Description of Items Being Exported:Component design and equipment supply for the Nuclear Steam Supply System, including reactor coolant pumps, reactor vessel internals, control element drive mechanism and man-machine interface system; licensing support; training; and technical support services.

Information on Decision: Information on the final decision for this transaction will be available in the “Summary Minutes of Meetings of Board of Directors” on http://www.exim.gov/articles.cfm/board%20minute.

Confidential Information: Please note that this notice does not include confidential or proprietary business information; information which, if disclosed, would violate the Trade Secrets Act; or information which would jeopardize jobs in the United States by supplying information that competitors could use to compete with companies in the United States.

Sharon A. Whitt,
Agency Clearance Officer.

[FR Doc. 2012-19388 Filed 8-7-12; 8:45 am]

BILLING CODE 6690-01-P